DEPARTMENT OF EDUCATION

National Board for Education Sciences; Meeting

AGENCY: Institute of Education Sciences, Department of Education.

ACTION: Notice of an open meeting.

SUMMARY: This notice sets forth the schedule and proposed agenda of an upcoming meeting of the National Board for Education Sciences. The notice also describes the functions of the Committee. Notice of this meeting is required by Section 10(a)(2) of the Federal Advisory Committee Act and is intended to notify the public of their opportunity to attend the meeting.

DATES: October 5, 2012.

Time: 8:30 a.m. to 4:30 p.m. Eastern Standard Time.

ADDRESSES: 80 F Street NW., Room 100, Washington, DC 20001.

FOR FURTHER INFORMATION CONTACT: Monica Herk, Executive Director, National Board for Education Sciences, 555 New Jersey Ave. NW., Room 602 K, Washington, DC 20208; phone:(202) 208-3491; fax:(202) 219-1466; email: Monica.Herk@ed.gov.

SUPPLEMENTARY INFORMATION: The National Board for Education Sciences is authorized by Section 116 of the Education Sciences Reform Act of 2002(ESRA), 20 U.S.C 9516. The Board advises the Director of the Institute of Education Sciences (IES) on, among other things, the establishment of activities to be supported by the Institute, on the funding for applications for grants, contracts, and cooperative agreements for research after the completion of peer review, and reviews and evaluates the work of the Institute.

On October 5, 2012, starting at 8:30 a.m., the Board will approve the agenda and hear remarks from the NBES Chair, Bridget Long. John Easton, Director of IES, will swear in two newly appointed Board members. John Easton and the Commissioners of the national centers will then give an overview of recent developments at IES.

From 9:45 to 10:15 a.m., Board members will follow-up on their discussion of the IES peer review process by listening to and discussing an update by Anne Ricciuti, IES Deputy Director for Science. A break will take place from 10:15 to 10:30 a.m.

From 10:30 a.m. to 12:00 noon, the Board will consider how to increase the supply and demand of information about educational research. Following opening presentations by Ruth Neild, Commissioner of the National Center for Education Evaluation and by Steve Fleishman, Deputy Executive Officer of Education Northwest, Board members will engage in roundtable discussion of the issues raised. The meeting will break for lunch from 12:00 noon to 1:00 p.m.

The Board meeting will resume from 1:00 to 2:30 p.m. for members to discuss the topic, “Design-Based Implementation Research”. After opening remarks by Barbara Means, Director of the Center for Technology in Learning at SRI International, and Thomas Smith, Director of the National Center for Scaling Up Effective Schools, the Board will engage in roundtable discussion of the topic.

From 2:30 to 3:00 p.m., John Easton, IES Director, will describe a new research program that IES will be launching.

An afternoon break will occur from 3:00 to 3:15 p.m.

From 3:15 to 3:45 p.m., the Board will listen to and discuss a briefing by Sue Betka, IES Deputy Director for Administration and Policy, on IES's budgetary outlook.

Between 3:45 and 4:15 p.m., the Board will discuss the leadership of the Board for the coming year.

At 4:15 p.m., there will be closing remarks and a consideration of next steps from the IES Director and NBES Chair, with adjournment scheduled for 4:30 p.m.

There will not be an opportunity for public comment. However, members of the public are encouraged to submit written comments related to NBES to Monica Herk (see contact information above). A final agenda is available from Monica Herk (see contact information above) and is posted on the Board Web site http://ies.ed.gov/director/board/agendas/index.asp. Individuals who will need accommodations for a disability in order to attend the meeting (e.g., interpreting services, assistance listening devices, or materials in alternative format) should notify Monica Herk no later than September 21. We will attempt to meet requests for accommodations after this date but cannot guarantee their availability. The meeting site is accessible to individuals with disabilities.

Records are kept of all Board proceedings and are available for public inspection at 555 New Jersey Ave. NW., Room 602 K, Washington, DC, 20208, from the hours of 9 a.m. to 5 p.m., Eastern Standard Time Monday through Friday. Electronic Access to This Document: You may view this document, as well as all other documents of this Department published in the Federal Register, in text or Adobe Portable Document Format (PDF) on the Internet at the following site: www.ed.gov/news/fed-register/index.html.

To use PDF you must have Adobe Acrobat Reader, which is available free at this site. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: www.gpoaccess.gov/nara/index.html.

John Q. Easton,
Director, Institute of Education Sciences.

[FR Doc. 2012-22861 Filed 9-14-12; 8:45 am]

BILLING CODE 4000-01-P